DEPARTMENT OF ENERGY

Federal Energy Regulatory Commission

[Project No. 13570-000]

Warmsprings Irrigation District; Notice of Preliminary Permit Application Accepted for Filing and Soliciting Comments, Motions To Intervene, and Competing Applications

September 4, 2009.

On August 14, 2009, Warmsprings Irrigation District filed an application for a preliminary permit, pursuant to section 4(f) of the Federal Power Act, proposing to study the feasibility of the Warm Springs Hydroelectric Project located at the existing Bureau of Reclamation's Warm Springs Dam on the Malheur River, Oregon. The sole purpose of a preliminary permit, if issued, is to grant the permit holder priority to file a license application during the permit term. A preliminary permit does not authorize the permit holder to perform any land disturbing activities or otherwise enter upon lands or waters owned by others without the owners' express permission.

The proposed project would utilize the existing facilities of the U.S. Bureau of Reclamation's Warm Springs Dam including the reservoir; and would consist of the following new facilities: (1) A proposed 60-inch-diameter and 100-feet-long penstock; (2) a new powerhouse containing one generating unit having an installed capacity of 2.5-megawatts; (3) a proposed 100-feet-long, 15-kilovolt transmission line; and (4) appurtenant facilities. The proposed project would have an average annual generation of 6.6 gigawatt-hours.

Applicant Contact: Randy Kinney, Warm Springs Irrigation District, 334 Main Street North, Vale, OR 97918; phone: (541) 473-3951.

FERC Contact: Gina Krump, (202) 502-6704, gina.krump@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13570) in the docket number field to access the document. For assistance, contact FERC Online Support.

Kimberly D. Bose,
Secretary.

[FR Doc. E9-22100 Filed 9-14-09; 8:45 am]

BILLING CODE 6717-01-P